DEPARTMENT OF ENERGY

Federal Energy Regulatory Commission

[Docket No. RP03-26-001]

Gulfstream Natural Gas System, L.L.C.; Notice of Compliance Filing

December 6, 2002.

Take notice that on November 27, 2002, Gulfstream Natural Gas System, L.L.C. (Gulfstream) tendered for filing as part of its FERC Gas Tariff, Original Volume No. 1, the following tariff sheets, with an effective date of November 16, 2002:

Sub First Revised Sheet No. 190

Sub Original Sheet No. 190A

Gulfstream states that the purpose of this filing is to comply with the letter order issued by the Commission on November 15, 2002 in Docket No. RP03-26-000 (November 15 Order). Gulfstream states that on October 16, 2002, it filed revised tariff sheets with proposed changes to the capacity release provisions of the General Terms and Conditions of its tariff. Gulfstream states that the Commission's November 15 Order accepted the proposed changes subject to Gulfstream making certain further revisions to the tariff sheets within 15 days of the November 15 Order. Gulfstream states that the tariff sheets included herewith include the required revisions in compliance with the November 15 Order.

Gulfstream states that copies of its filing have been mailed to all affected customers, interested state commissions, and all parties listed on the Official Service List compiled by the Secretary of the Commission in this proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Magalie R. Salas,
Secretary.

[FR Doc. 02-31329 Filed 12-11-02; 8:45 am]

BILLING CODE 6717-01-P